FEDERAL COMMUNICATIONS COMMISSION

47 CFR Part 15

[ET Docket No 18-295, GN Docket No 17-183; Report No. 3224; FRS 291102]

Petition for Reconsideration of Action in Rulemaking Proceeding

AGENCY: Federal Communications Commission.

ACTION: Petition for Reconsideration.

SUMMARY: Petitions for Reconsideration (Petitions) have been filed in the Commission's rulemaking proceeding by Rick Kaplan, Alison Martin, and Robert Weller, on behalf of The National Association of Broadcasters (NAB).

DATES: Oppositions to the Petition must be filed on or before May 14, 2025. Replies to an opposition must be filed on or before May 27, 2025

ADDRESSES: Federal Communications Commission, 45 L Street NE, Washington, DC 20554.

FOR FURTHER INFORMATION CONTACT: Nicholas Oros, Office of Engineering and Technology, Policy and Rules Division, (202) 418-0636 or nicholas.oros@fcc.gov.

SUPPLEMENTARY INFORMATION: This is a summary of the Commission's document, Report No. 3224, released April 17, 2025. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Unlicensed Use of 6 GHz Band; Expanding Flexible Use in Mid-Band Spectrum Between 3.7 and 24 GHz, FCC 24-125, 90 FR 11373, released March 6, 2025, ET Docket No 18-295, GN Docket No 17-183. This document is being published pursuant to 47 CFR 1.429(e). See also 47 CFR 1.4(b)(1) and 1.429(f), (g).

Number of Petitions Filed: 1.

Federal Communications Commission.
Katura Jackson,
Federal Register Liaison Officer.

[FR Doc. 2025-07310 Filed 4-28-25; 8:45 am]

BILLING CODE 6712-01-P